DEPARTMENT OF AGRICULTURE

Farm Service Agency

Dairy Industry Advisory Committee; Public Meeting

AGENCY: Farm Service Agency, USDA.

ACTION: Notice of public meetings.

SUMMARY: As required by the Federal Advisory Committee Act, as amended, the Farm Service Agency (FSA) announces meetings of the Dairy Industry Advisory Committee (Dairy Committee) to discuss farm milk price volatility and dairy farmer profitability, and review various industry proposals and analysis. The Dairy Committee is responsible for making recommendations to the Secretary on policy issues impacting the dairy industry. We invite you to attend the meetings. The meetings are open to the public. Instructions regarding registering for and attending the meetings are provided in the SUPPLEMENTARY INFORMATION section of this notice.

DATES: Meetings: The meetings will be on December 14-16, 2010, and January 11 and 12, 2011.

Registration: You must register by December 13, 2010, to attend the December public meeting and by January 7, 2011, to attend the January public meeting.

Comments: Written comments are due by December 16, 2010, for the December meeting and by January 12, 2011, for the January meeting.

ADDRESSES: The meetings will be held in room 3074 of the USDA Headquarters South Building at 1400 Independence Avenue, SW., Washington, DC 20250.

You may submit comments online: Go to http://www.fsa.usda.gov/DIAC. Follow the online instructions for submitting comments.

FOR FURTHER INFORMATION CONTACT: Solomon Whitfield, Designated Federal Official; phone: (202) 720-9886; e-mail: solomon.whitfield@wdc.usda.gov. Persons with disabilities who require alternative means for communication (Braille, large print, audio tape, etc.) should contact the USDA Target Center at (202) 720-2600 (voice and TDD).

SUPPLEMENTARY INFORMATION:

In August 2009, USDA established the Dairy Committee. The Dairy Committee reviews issues of farm milk price volatility and dairy farmer profitability. The Dairy Committee provides recommendations to the Secretary on how USDA can best address these issues to meet the dairy industry's needs.

The Secretary of Agriculture selected a diverse group of members representing a broad spectrum of persons interested in providing suggestions and ideas on how USDA can tailor its programs to meet the dairy industry's needs. Equal opportunity practices were considered in all appointments to the Dairy Committee in accordance with USDA policies. The Secretary announced the members on January 6, 2010. Representatives include: Producers and producer organizations, processors and processor organizations, consumers, academia, a retailer, and a state representative.

The Dairy Committee will hold the meetings on the following dates and locations:

Date | Time | Location
December 14, 2010 | 1:00 p.m.-5:00 p.m. | USDA headquarters, in the South Building, Room 3074, 1400 Independence Avenue, SW., Washington, DC 20250.
December 15, 2010 | 8:00 a.m.-noon. | USDA headquarters, in the South Building, Room 3074, 1400 Independence Avenue, SW., Washington, DC 20250.
December 16, 2010 | 8:00 a.m.-5:00 p.m. | USDA headquarters, in the South Building, Room 3074, 1400 Independence Avenue, SW., Washington, DC 20250.
January 11 and 12, 2011 | 8:00 a.m. -5:00 p.m. | USDA headquarters, in the South Building, Room 3074, 1400 Independence Avenue, SW., Washington, DC 20250.

The purpose of the meetings for the Dairy Committee is to:

• Discuss farm milk price volatility and dairy farmer profitability, and

• Finalize the format for the report.

The meetings are open to the public. The dairy industry and public will not be allowed to provide oral comments at the meetings on December 14-16, 2010, and January 11 and 12, 2011; however, written comments will be accepted if received by December 16, 2010 for the December meeting and by January 12, 2011 for the January meeting.

Instructions for Attending the Meetings

Space for attendance at the meetings is limited. Due to USDA headquarters security and space requirements, all persons wishing to attend the Dairy Committee meetings must send an e-mail to DIAC@wdc.usda.gov by December 13, 2010 for the December meeting and by January 7, 2011, for the January meeting to register the names of those planning to attend. Public seating will be extremely limited. Registrations will be accepted until maximum room capacity is reached. Upon arrival at the USDA South Building, registered persons must provide valid photo identification in order to enter the building. Additional information about the public meetings, meeting agendas, materials and minutes including directions and how to provide comments is available at the Dairy Committee Web site: http://www.fsa.usda.gov/DIAC.

The comments received will be distributed to Dairy Committee members for consideration at the meetings.

If you require special accommodations, such as a sign language interpreter, please use the contact information above.

Notice of these meetings is provided in accordance with section 10(a)(2) of the Federal Advisory Committee Act, as amended (5 U.S.C. Appendix 2).

Signed in Washington, DC, on November 19, 2010.
Jonathan W. Coppess,
Administrator, Farm Service Agency.

[FR Doc. 2010-29699 Filed 11-24-10; 8:45 am]

BILLING CODE 3410-05-P